DEPARTMENT OF THE INTERIOR

Bureau of Indian Affairs

Notice of Intent To Prepare an Environmental Impact Statement for the St. Croix Chippewa Indians of Wisconsin and the Bad River Band of the Lake Superior Tribe of Chippewa Indians' Proposed 26 Acre Fee-to-Trust Transfer and Casino Project in the City of Beloit, Rock County, Wisconsin

AGENCY: Bureau of Indian Affairs, Interior.

ACTION: Notice.

SUMMARY: This notice advises the public that the Bureau of Indian Affairs (BIA) as lead agency, with the St. Croix Chippewa Indians of Wisconsin and the Bad River Band of the Lake Superior Tribe of Chippewa Indians (the Tribes) as cooperating agencies, intends to gather the information necessary for preparing an Environmental Impact Statement (EIS) for a proposed 26 acre fee-to-trust land transfer and casino project in Rock County, Wisconsin. The purpose of the proposed action is to help meet the economic development needs of the Tribes.

DATES: Written comments on the scope and implementation of this proposal must arrive by June 3, 2004. We estimate that the EIS will be ready for a Record of Decision by February 2005. This estimate includes public comment periods of 30 days for this notice, 60 days for the Draft EIS and 30 days for the Final EIS, plus time for notice issuance, a public hearing, response to comments, document revision and legal review.

ADDRESSES: Comments should be addressed to Terrance L. Virden, Director, Midwest Region, Bureau of Indian Affairs, Bishop Henry Whipple Federal Building, One Federal Drive, Room 550, Ft. Snelling, Minnesota 55111.

FOR FURTHER INFORMATION CONTACT: Herb Nelson, (612) 713-4400 extension 1143.

SUPPLEMENTARY INFORMATION: The BIA proposes to take 26 acres of land into trust on behalf of the Tribes, on which the Tribes propose to build a resort and casino complex. The property is located along the west side of Interstate 90 (I-90) in the City of Beloit, Rock County, Wisconsin. The project design contemplates a 100,000 square foot casino and support area, a 35,000 square foot conference/convention center, several restaurants, a 7,000 square foot child care facility and a gift shop, to be located on the 26 acres to be taken into trust. A 500 unit hotel, a 2,000 seat theater, a 68,000 square foot water park, and parking facilities would be located on an adjacent, fee parcel. An Environmental Assessment (EA) was prepared for this project under the direction of the BIA and the Tribes by Environmental Resource Group. The BIA independently evaluated, revised and approved the EA's scope and contents. The BIA released the EA to the public for comment on September 17, 2003. Upon consideration of the EA and the comments received on it during the comment period, the BIA concluded that the potential environmental impact of the proposed action was significant enough to warrant an EIS. The BIA proposes to use the EA and the comments received on it as a substantial part of the scoping process for the EIS.

Issues identified to date to be addressed in the EIS include the following:

• Traffic (how the traffic generated by the casino development may effect the existing transportation system);

• Air quality (possible additive impacts of project-induced traffic on air quality);

• Socio-economics (how the project may affect employment and income, housing, schools, and infrastructure);

• Cumulative effects (environmental impacts of the project together with those of other reasonably foreseeable development projects in the area); and

• Alternatives to the preferred alternative.

The range of issues and alternatives addressed in the EIS may be expanded based on comments received in response to this notice.

Public Comment Availability

Comments, including names and addresses of respondents, will be available for public review at the mailing address shown in the ADDRESSES section, during regular business hours, 8:00 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Authority

This notice is published in accordance with section 1503.1 of the Council on Environmental Quality Regulations (40 CFR Parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.

Dated: April 15, 2004.
Woodrow W. Hopper, Jr.,
Deputy Assistant Secretary—Indian Affairs (Management).

[FR Doc. 04-10007 Filed 4-30-04; 8:45 am]

BILLING CODE 4310-W7-P